DEPARTMENT OF AGRICULTURE

Submission for OMB Review; Comment Request

May 15, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725 17th Street NW., Washington, DC 20503. Commenters are encouraged to submit their comments to OMB via email to: OIRA_Submission@OMB.EOP.GOV or fax (202) 395-5806 and to Departmental Clearance Office, USDA, OCIO, Mail Stop 7602, Washington, DC 20250-7602. Comments regarding these information collections are best assured of having their full effect if received by June 20, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers & Stockyards Administration

Title: “Clear Title”—Protection for Purchasers of Farm Products.

OMB Control Number: 0580-0016.

Summary of Collection: Grain Inspection, Packers and Stockyards Administration (GIPSA) have the responsibility for the Clear Title Program (Section 1324 of the Food Security Act of 1985. Clear Title Program was enacted to facilitate interstate commerce in farm products and protect purchasers of farm products by enabling States to establish central filing systems. The Clear Title Program purpose is to remove burden on and obstruction to interstate commerce in farm products such as double payment for the products, once at the time of purchase and again when the seller fails to repay the lender. The Food Security Act of 1985 permits the states to establish “central filing systems'. These central filing systems notify buyers of farm products of any mortgages or liens on the products.

Need and Use of the Information: A state submits information one time to GIPSA when applying for certification. The type of information required by the regulations includes how the system will operate, information to be submitted to the State for inclusion in the central filing system, information on storage, retrieval, and distribution of information contained in the central filing system. GIPSA reviews the information submitted by the states to certify that those central filing systems meet the criteria set forth in section 1324 of the Food Security Act of 1985. The information received from the State is available for public inspection.

Description of Respondents: State, Local or Tribal Government.

Number of Respondents: 1.

Frequency of Responses: Reporting: On occasion.

Total Burden Hours: 80.

Charlene Parker,
Departmental Information Collection Clearance Officer.

[FR Doc. 2014-11754 Filed 5-20-14; 8:45 am]

BILLING CODE 3410-KD-P